FEDERAL RETIREMENT THRIFT INVESTMENT BOARD

5 CFR Part 1631

Technical Correction

AGENCY: Federal Retirement Thrift Investment Board.

ACTION: Correcting amendment.

SUMMARY: The Federal Retirement Thrift Investment Board (FRTIB) is making technical revisions to its regulations after a reorganization of the Office of Participant Services and Office of Communications and Education into a new Office of Participant Experience. This action makes no substantive regulatory changes.

DATES: Effective March 18, 2024.

FOR FURTHER INFORMATION CONTACT: Magali Matarazzi at (202) 864-7006.

SUPPLEMENTARY INFORMATION: The FRTIB administers the Thrift Savings Plan (TSP), which was established by the Federal Employees' Retirement System Act of 1986 (FERSA), Public Law 99-335, 100 Stat. 514. The TSP provisions of FERSA are codified, as amended, largely at 5 U.S.C. 8351 and 8401-79. The TSP is a tax-deferred retirement savings plan for Federal civilian employees and members of the uniformed services. The TSP is similar to cash or deferred arrangements established for private-sector employees under section 401(k) of the Internal Revenue Code (26 U.S.C. 401(k)).

Office Name Change

The FRTIB has reorganized the Office of Participant Services and Office of Communications and Education into a new Office of Participant Experience. This amendment to 5 CFR 1631.3 revises references to former offices of the FRTIB to reflect their new name.

Administrative Procedures Act

The FRTIB is promulgating these corrections without advance notice or an opportunity for comment because the FRTIB for good cause finds that notice and public comment are unnecessary, impracticable, or contrary to the public interest under the “good cause” exemption of the Administrative Procedure Act (“APA”). 5 U.S.C. 553(b)(B). The FRTIB finds that notice and comment are unnecessary here because these corrections are merely typographical and technical; they effect no substantive changes to any rule. For the same reason, these corrections fall within the “good cause” exception to the delayed effective date provisions of the APA and the Congressional Review Act. 5 U.S.C. 553(d)(3) and 808(2). Accordingly, these corrections are effective upon publication in the Federal Register.

Regulatory Flexibility Act

This regulation will not have a significant economic impact on a substantial number of small entities. This regulation will affect Federal employees, members of the uniformed services who participate in the TSP, and beneficiary participants.

Paperwork Reduction Act

This regulation does not require additional reporting under the criteria of the Paperwork Reduction Act.

Unfunded Mandates Reform Act of 1995

Pursuant to the Unfunded Mandates Reform Act of 1995, 2 U.S.C. 602, 632, 653, and 1501-1571, the effects of this regulation on State, local, and tribal governments and the private sector have been assessed. This regulation will not compel the expenditure in any one year of $100 million or more by State, local, and tribal governments, in the aggregate, or by the private sector. Therefore, a statement under 2 U.S.C. 1532 is not required.

Submission to Congress and the General Accounting Office

Pursuant to 5 U.S.C. 801(a)(1)(A), the FRTIB submitted a report containing this rule and other required information to the U.S. Senate, the U.S. House of Representatives, and the Comptroller General of the United States before publication of this rule in the Federal Register. This rule is not a major rule as defined at 5 U.S.C. 804(2).

List of Subjects in 5 CFR Part 1631

Availability of records.

Ravindra Deo,
Executive Director, Federal Retirement Thrift Investment Board.

For the reasons stated in the preamble, the FRTIB amends 5 CFR Chapter VI as follows:

PART 1631—AVAILABILITY OF RECORDS

Subpart A—Production or Disclosure of Records Under the Freedom of Information Act, 5 U.S.C. 552

1. The authority citation for subpart A of part 1631 continues to read as follows:

Authority: 5 U.S.C. 552.

2. Amend § 1631.3 by revising paragraphs (a)(1) through (a)(10) and removing paragraph (a)(11) to read as follows:

§ 1631.3 Organization and functions.

(a) * * *

(1) The five part-time members who serve on the Board;

(2) The Office of the Executive Director;

(3) The Office of Participant Experience;

(4) The Office of General Counsel;

(5) The Office of Investments;

(6) The Office of Planning and Risk;

(7) The Office of External Affairs;

(8) The Office of Chief Financial Officer;

(9) The Office of Resource Management; and

(10) The Office of Technology Services.

* * * * *

[FR Doc. 2024-05614 Filed 3-15-24; 8:45 am]

BILLING CODE 6760-01-P